DEPARTMENT OF THE INTERIOR

Fish and Wildlife Service

Endangered and Threatened Wildlife and Plants; 5-Year Review of Tooth Cave Ground Beetle

AGENCY: Fish and Wildlife Service, Interior.

ACTION: Notice of review.

SUMMARY: The U.S. Fish and Wildlife Service (Service) announces a 5-year review of the Tooth Cave ground beetle (Rhadine persephone) under the Endangered Species Act of 1973 (Act). The purpose of reviews conducted under this section of the Act is to ensure that the classification of species as threatened or endangered on the List of Endangered and Threatened Wildlife and Plants (50 CFR 17.12) is accurate. The 5-year review is an assessment of the best scientific and commercial data available at the time of the review.

DATES: To allow adequate time to conduct this review, information submitted for our consideration must be received on or before November 14, 2005. However, we will continue to accept new information about any listed species at any time.

ADDRESSES: Information submitted on this species should be sent to the Field Supervisor, attention 5-year Review, U.S. Fish and Wildlife Service, Austin Ecological Services Field Office, 10711 Burnet Road, Suite 200, Austin, Texas 78758. Information received in response to this notice of review will be available for public inspection by appointment, during normal business hours, at the same address.

FOR FURTHER INFORMATION CONTACT: Robert Pine, at the U.S. Fish and Wildlife Service, Austin Ecological Services Field Office, 10711 Burnet Road, Suite 200, Austin, Texas 78758, 512-490-0057 x -248.

SUPPLEMENTARY INFORMATION:

Why Is a 5-year Review Conducted?

Section 4(c)(2)(A) of the Act (16 U.S.C. 1531 et seq.) requires that we conduct a review of listed species at least once every 5 years. We are then, under section 4(c)(2)(B) and the provisions of subsections (a) and (b), to determine, on the basis of such a review, whether or not any species should be removed from the List of Endangered and Threatened Wildlife and Plants (List), or reclassified from endangered to threatened, or from threatened to endangered. The 5-year review is an assessment of the best scientific and commercial data available at the time of the review. Therefore, we are requesting submission of any new information (best scientific and commercial data) on the Tooth Cave ground beetle since the original listing as endangered in 1988 (53 FR 36029).

Our regulations at 50 CFR 424.21 require that we publish a notice in the Federal Register announcing those species currently under active review. This notice announces our active review of the Tooth Cave ground beetle.

What Could Happen as a Result of This Review?

If we find that there is new information concerning Tooth Cave ground beetle indicating a change in classification may be warranted, we may propose a new rule that could either reclassify the species from endangered to threatened (downlist) or remove the species from the List (delist). If we determine that a change in classification is not warranted, then this species will remain on the List under its current status of endangered. Any change in Federal classification would require a separate rule-making process.

What Information Is Considered in the Review?

A 5-year review considers all new information available at the time of the review. These reviews will consider the best scientific and commercial data that have become available since the current listing determination or most recent status review of each species, such as:

A. Species biology, including but not limited to population trends, distribution; abundance, demographics, and genetics;

B. Habitat conditions, including but not limited to amount, distribution, and suitability;

C. Conservation measures that have been implemented to benefit the species;

D. Threat status and trends (see five factors under heading “How do we determine whether a species is endangered or threatened?”); and

E. Other new information, data, or corrections, including but not limited to taxonomic or nomenclatural changes, identification of erroneous information contained in the List of Endangered and Threatened Wildlife and Plants, and improved analytical methods.

Background on the Tooth Cave Ground Beetle

The Tooth Cave ground beetle is a very small invertebrate found only underground in caves and karst features in Williamson and Travis Counties, Texas, in and near the Austin metropolitan area. The continued existence of this species depends on the ecological stability of the karst environments in which it is found. The Tooth Cave ground beetle is known only from the Cedar Park and Jollyville karst fauna regions as delineated by Veni & Associates (1992, Geologic controls on cave development and the distribution of cave fauna in the Austin, Texas, region, Report to U.S. Fish and Wildlife Service, v+77 pp.). Karst fauna regions are geographic areas delineated based on geologic continuity, hydrology, and the distribution of rare karst invertebrate species. There are seven karst fauna regions delineated in Williamson and Travis Counties.

The primary threat to the Tooth Cave ground beetle is habitat loss due to encroaching urban development. The species occurs in an area of central Texas that is undergoing continued urbanization. Alterations of topography, vegetation and drainage patterns from urbanization can ultimately lead to changes (increases or decreases) in the moisture regime and nutrient input into the karst ecosystems. Alterations can also result in increased sedimentation in karst habitats. Karst environments are also highly susceptible to groundwater contamination, that is, the addition of pollutants to water (from either point or non-point sources) that may pass through karst habitats. Sources of this contamination include urban runoff, agricultural pesticide use, transportation and pipeline spills and landfills. Impacts from red imported fire ants (Solenopsis invicta), an exotic species proliferating within the range of Tooth Cave ground beetle, pose another major threat.

How Is the Tooth Cave Ground Beetle Currently Listed?

The List of Endangered and Threatened Wildlife and Plants (List) is found in 50 CFR 17.11 (wildlife) and 17.12 (plants). Amendments to the List through final rules are published in the Federal Register. The List is also available on the internet at http://endangered.fws.gov/wildlife.html#Species. The Tooth Cave ground beetle is currently listed as endangered (53 FR 36029). The recovery plan for this species was completed in 1994 (available online at http://endangered.fws.gov/recovery/) and describes the specific criteria needed to achieve recovery of the species.

Specific Information Requested for the Tooth Cave Ground Beetle

We are especially interested in: (1) The results of survey and monitoring efforts that provide a better understanding of current population numbers and the status, security, and location of karst features that provide habitat for this species; (2) recent information regarding the impacts of urban development on the karst environment within the range of the Tooth Cave ground beetle; (3) the impacts of red imported fire ants on the species; and (4) additional site-specific information on protective measures currently in place for this species and its habitat and the expected longevity of those measures.

Definitions Related to This Notice

The following definitions are provided to assist those persons who consider submitting information regarding the species being reviewed:

A. Species includes any species or subspecies of fish, wildlife, or plant, and any distinct population segment of any species of vertebrate, which interbreeds when mature.

B. Endangered means any species that is in danger of extinction throughout all or a significant portion of its range.

C. Threatened means any species that is likely to become an endangered species within the foreseeable future throughout all or a significant portion of its range.

How Do We Determine Whether a Species Is Endangered or Threatened?

Section 4(a)(1) of the Act establishes that we determine whether a species is endangered or threatened based on one or more of the five following factors:

A. The present or threatened destruction, modification, or curtailment of its habitat or range;

B. Overutilization for commercial, recreational, scientific, or educational purposes;

C. Disease or predation;

D. The inadequacy of existing regulatory mechanisms; or

E. Other natural or manmade factors affecting its continued existence.

Section 4(a)(1) of the Act requires that our determination be made on the basis of the best scientific and commercial data available.

Public Solicitation of New Information

We request any new information concerning the status of Tooth Cave ground beetle. See “What information is considered in the review?” for specific criteria. Information submitted should be supported by documentation such as maps, bibliographic references, methods used to gather and analyze the data, and/or copies of any pertinent publications, reports, or letters by knowledgeable sources. Our practice is to make comments, including names and home addresses of respondents, available for public review. Individual respondents may request that we withhold their home addresses from the supporting record, which we will honor to the extent allowable by law. There also may be circumstances in which we may withhold from the supporting record a respondent's identity, as allowable by law. If you wish us to withhold your name and/or address, you must state this prominently at the beginning of your comment. We will not consider anonymous comments, however. We will make all submissions from organizations or businesses, and from individuals identifying themselves as representatives or officials of organizations or businesses, available for public inspection in their entirety.

Authority: This document is published under the authority of the Endangered Species Act (16 U.S.C. 1531 et seq.).

Dated: August 10, 2005.
Nancy J. Gloman,
Acting Regional Director, Region 2, Fish and Wildlife Service.

[FR Doc. 05-16181 Filed 8-15-05; 8:45 am]

BILLING CODE 4310-55-P